DEPARTMENT OF HOMELAND SECURITY

Coast Guard

33 CFR Part 165

[CGD09-06-123]

RIN 1625-AA00

Safety Zones; U.S. Coast Guard Water Training Areas, Great Lakes

AGENCY: Coast Guard, DHS.

ACTION: Notice of proposed rulemaking.

SUMMARY: The Coast Guard proposes to establish safety zones throughout the Great Lakes. These zones are intended to restrict vessels from portions of the Great Lakes during live fire gun exercises that will be conducted by Coast Guard cutters and small boats. These safety zones are necessary to protect the public from the hazards associated with the firing of weapons.

DATES: Comments and related materials must reach the Coast Guard on or before August 31, 2006.

ADDRESSES: You may mail comments and related material to Commander (dre) Ninth Coast Guard District, 1240 E. 9th Street, Room 2069, Cleveland, OH 44199. The Ninth Coast Guard District Planning and Development Section (dpw-1) maintains the public docket for this rulemaking. Comments and material received from the public, as well as documents indicated in this preamble as being available in the docket, will become part of this docket and will be available for inspection or copying between 8 a.m. (local) and 4 p.m. (local), Monday through Friday, except Federal holidays.

FOR FURTHER INFORMATION CONTACT: Commander Gustav Wulfkuhle, Enforcement Branch, Response Division, Ninth Coast Guard District, Cleveland, OH at (216) 902-6091.

SUPPLEMENTARY INFORMATION:

Request for Comments

We encourage you to submit comments and related materials. If you submit a comment, please include your name and address, identify the docket number for this rulemaking [CGD09-06-123], indicate the specific section of this document to which each comment applies, and give the reason for each comment. You may submit your comments and material by mail (see ADDRESSES). If you submit them by mail or delivery, submit them in an unbound format, no larger than 8½ by 11 inches, suitable for copying and electronic filing. If you submit them by mail and would like to know that they reached the facility, please enclose a stamped, self-addressed postcard or envelope. We will consider all comments and material received during the comment period, which may result in a modification to the rule.

Public Meeting

We do not now plan to hold a public meeting. But you may submit a request for a public meeting (see ADDRESSES) explaining why one would be beneficial. If we determine that one would aid this rulemaking, we will hold one at a time and place announced by a later notice in the Federal Register.

Regulatory Information

The Coast Guard is proposing to establish these safety zones to conduct training essential to carrying out Coast Guard missions relating to military operations and national security. Accordingly, these proposed safety zones fall within the military function exception to the Administrative Procedure Act (APA), 5 U.S.C. 553(a)(1). Notice and comment rulemaking under 5 U.S.C. 553(b), and an effective date of 30 days after publication under 5 U.S.C. 553(d) are not required for this rulemaking.

However, we have determined that it would be beneficial to accept public comments on this proposed rule. Therefore, we will be accepting comments until August 31, 2006. By issuing this notice of proposed rulemaking and accepting public comments, the Coast Guard does not waive its use of the military-function exception to notice and comment rulemaking under 5 U.S.C. 553(b).

Background and Purpose

These safety zones are necessary to protect vessels and people from hazards associated with live fire gun exercises. Such hazards include projectiles that may ricochet and damage vessels and/or cause death or serious bodily harm.

Discussion of Proposed Rule

The proposed safety zones are necessary to ensure the safety of vessels and people during live fire gun exercises on the Great Lakes. Twenty-six zones will be located throughout the Great Lakes in order to accommodate 57 separate Coast Guard units. The proposed safety zones are all located at least three nautical miles from the shoreline.

The proposed safety zones will be enforced only upon notice by the cognizant Captain of the Port for the area in which the exercise will be held. The cognizant Captain of the Port will cause notice of the enforcement of a live fire exercise safety zone to be made by all appropriate means to effect the widest publicity among the affected segments of the public including publication in the Federal Register as practicable, in accordance with 33 CFR 165.7(a). Such means of notification may also include but are not limited to, Broadcast Notice to Mariners or Local Notice to Mariners. The cognizant Captain of the Port will issue a Broadcast Notice to Mariners and Local Notice to Mariners notifying the public when enforcement of a live fire exercise safety zone is suspended.

The proposed live fire exercise safety zones are as follows:

Lake Ontario

Ontario Zone 1 (Eastern): Beginning at 43°44′18″ N, 076°30′22″ W; then south to 43°36′05″ N, 076°30′22″ W; the east to 43°36′05″ N, 076°22′58″ W; then north to 43°44′18″ N, 076°22′58″ W; then west to the point of origin.

Ontario Zone 2 (Middle): Beginning at 43°27′59″ N, 077°34′32″ W; then south to 43°24′19″ N, 077°34′36″ W; the east to 43°24′20″ N, 077°22′55″ W; then north to 43°28′06″ N, 077°23′04″ W; then west to the point of origin.

Ontario Zone 3 (Western): Beginning at 43°24′19″ N, 079°02′25″ W; then south to 43°21′50″ N, 079°00′47″ W; then east to 43°23′48″ N, 078°50′29″ W; then north to 43°26′29″ N, 078°52′05″ W; then west to the point of origin.

Lake Erie

Erie Zone 1 (Eastern): Beginning at 42°12′01″ N, 080°45′11″ W; then south to 42°05′22″ N, 080°38′23″ W; then east to 42°12′35″ N, 080°18′01″ W; then north to 42°15′18″ N, 080°23′52″ W; then west to the point of origin.

Erie Zone 2 (Eastern Middle): Beginning at 41°59′51″ N, 081°16′23″ W; then south to 41°56′15″ N, 081°16′02″ W; then east to 41°58′39″ N, 081°00′12″ W; the north to 42°02′20″ N, 081°01′00″ W; then west to the point of origin.

Erie Zone 3 (Western Middle): Beginning at 41°47′40″ N, 081°47′44″ W; then south to 41°41′50″ N, 081°46′22″ W; then east to 41°41′24″ N, 081°40′26″ W; then north to 41°47′26″ N, 081°37′49″ W then west to the point of origin.

Erie Zone 4 (Western): Beginning at 41°35′30″ N, 082°30′04″ W; then south to 41°30′07″ N, 082°31′02″ W; then east to 41°30′22″ N, 082°25′07″ W; then north to 41°35′30″ N, 082°25′07″ W; then west to the point of origin.

Lake Huron

Huron Zone 1 (Southern): Beginning at 43°43′07″ N, 082°24′23″ W; then south to 43°27′45″ N, 082°24′34″ W; then east to 43°27′45″ N, 082°20′16″ W; then north to 43°42′51″ N, 082°17′14″ W; then west to the point of origin.

Huron Zone 2 (Harbor Beach): Beginning at 44°12′00″ N, 082°40′30″ W; then south to 44°04′02″ N, 082°37′41″ W; then east to 44°04′44″ N, 082°29′24″ W; then north to 44°12′00″ N, 082°33′08″ W; then west to the point of origin.

Huron Zone 3 (Saginaw Bay): Beginning at 44°19′24″ N, 083°10′40″ W; then south to 44°09′48″ N, 083°15′55″ W; then east to 44°12′08″ N, 082°50′35″ W; then north to 44°19′30″ N, 082°55′15″ W; the west to the point of origin.

Huron Zone 4 (Thunder Bay South): Beginning at 44°45′45″ N, 083°07′19″ W; then south to 44°38′00″ N, 083°03′18″ W; then east to 44°38′00″ N, 082°54′11″ W; then north to 44°45′45″ N, 082°57′42″ W; then west to the point of origin.

Huron Zone 5 (Thunder Bay North): Beginning at 45°17′02″ N, 082°51′48″ W; then south to 45°05′54″ N, 082°51′22″ W; then southeast to 45°01′10″ N, 082°47′22″ W; then east to 45°01′07″ N, 082°35′48″ W; then north to 45°16′13″ N, 082°39′33″ W; then west to the point of origin.

Huron Zone 6 (Northern): Beginning at 45°44′35″ N, 083°58′16″ W; then south to 45°39′48″ N, 083°59′55″ W; then east to 45°38′41″ N, 083°49′26″ W; then north to 45°42′39″ N, 083°50′22″ W; then west to the point of origin.

Lake Michigan

Michigan Zone 1 (Charlevoix): Beginning at 45°30′00″ N, 085°25′18″ W, then southwest to 45°22′41″ N, 085°26′47″ W, then northeast to 45°27′45″ N, 085°13′50″ W, then northwest to 45°32′46″ N, 085°16' 25″ W then southwest to the point of origin.

Michigan Zone 2 (Frankfort): Beginning at 44°47′23″ N, 086°41′12″ W; then south to 44°34′06″ N, 086°48′54″ W; then east to 44°35′55″ N, 086°33′03″ W; then north to 44°46′41″ N, 086°28′43″ W; then west to the point of origin.

Michigan Zone 3 (Manistee): Beginning at 44°22′18″ N, 086°53′41″ W; then southwest to 44°14′34″ N, 087°01′06″ W; then southeast to 44°09′18″ N, 086°51′36″ W; then northeast to 44°21′49″ N, 086°40′14″ W; then northwest to the point of origin.

Michigan Zone 4 (Ludington): Beginning at 43°59′40″ N, 086°46′24″ W; then south to 43°51′24″ N, 086°49′50″ W; then east to 43°51′11″ N, 086°42′28″ W; then north to 43°59′21″ N, 086°39′15″ W; then west to the point of origin.

Michigan Zone 5 (Grand Haven): Beginning at 43°13′03″ N, 086°46′57″ W; then south to 43°00′27″ N, 086°46′04″ W; then east to 43°00′17″ N, 086°27′13″ W; then north to 43°13′49″ N, 086°32′00″ W; then west to the point of origin.

Michigan Zone 6 (St. Joseph): Beginning at 42°12′52″ N, 086°50′10″ W; then south to 42°05′41″ N, 086°53′55″ W; then east to 42°05′24″ N, 086°43′45″ W; then north to 42°12′19″ N, 086°39′42″ W; then west to the point of origin.

Michigan Zone 7 (Michigan City): Beginning at 41°58′36″ N, 087°02′53″ W; then south to 41°48′42″ N, 087°02′53″ W; then northeast to 41°52′51″ N, 086°51′40″ W; then north to 41°59′06″ N, 086°48′00″ W; then west to the point of origin.

Michigan Zone 8 (Chicago): Beginning at 41°55′18″ N, 087°15′49″ W; then south to 41°48′29″ N, 087°17′46″ W; then east to 41°47′45″ N, 087°08′57″ W; then north to 41°55′18″ N, 087°08′48″ W; then west to the point of origin.

Michigan Zone 9 (Waukeegan): Beginning at 42°22′28″ N, 087°39′14″ W; then south to 42°17′49″ N, 087°39′27″ W; then southeast to 42°13′42″ N, 087°37′35″ W; then east to 42°14′02″ N, 087°31′36″ W; then north to 42°22′58″ N, 087°33′02″ W; then west to the point of origin.

Michigan Zone 10 (Kenosha): Beginning at 42°39′28″ N, 087°33′19″ W; then south to 42°30′17″ N, 087°31′09″ W; then east to 42°30′21″ N, 087°23′23″ W; then north to 42°38′55″ N, 087°24′30″ W; then west to the point of origin.

Michigan Zone 11 (Milwaukee): Beginning at 43°05′13″ N, 087°32′48″ W; then south to 42°54′37″ N, 087°34′27″ W; then east to 42°54′50″ N, 087°26′27″ W; then north to 43°05′13″ N, 087°25′55″ W; then west to the point of origin.

Michigan Zone 12 (Two Rivers): Beginning at 44°08′20″ N, 087°24′08″ W; then south to 43°49′06″ N, 087°27′34″ W; then east to 43°48′59″ N, 087°20′19″ W; then north to 44°06′04″ N, 087°16′43″ W; then northwest to the point of origin.

Michigan Zone 13 (Sturgeon Bay): Beginning at 44°41′22″ N, 087°08′43″ W; then south to 44°32′49″ N, 087°13′21″ W; then east to 44°32′32″ N, 087°04′10″ W; then north to 44°40′33″ N, 087°01′41″ W; then west to the point of origin.

Michigan Zone 14 (Washington Island): Beginning at 45°19′17″ N, 086°35′58″ W; then southwest to 45°12′50″ N, 086°41′39″ W; then southeast to 45°10′50″ N, 086°30′48″ W; then northeast to 45°17′29″ N, 086°25′32″ W; then northwest to the point of origin.

Lake Superior:

Superior Zone 1 (Whitefish Bay): Beginning at 46°41′30″ N, 084°54′00″ W; then south to 46°36′00″ N, 084°55′00″ W; continuing south to 46°34′30″ N, 084°54′36″ W; then east to 46°33′18″ N, 084°50′54″ W; continuing east to 46°32′48″ N, 084°46′00″ W; then north to 46°33′12″ N, 084°45′54″ W; then northwest to 46°36′06″ N, 084°49′48″ W; continuing northwest to 46°42′00″ N, 084°52′18″ W; then southwest to the point of origin.

Superior Zone 2 (Sault Ste. Marie): Beginning at 46°56′16″ N, 085°39′01″ W; then southeast to 46°51′55″ N, 085°24′04″ W; then northeast to 46°53′07″ N, 085°12′37″ W; then northwest to 46°58′20″ N, 085°29′44″ W; then southwest to the point of origin.

Superior Zone 3 (Marquette) Beginning at 46°47′39″ N, 087°11′42″ W; then south to 46°39′54″ N, 087°09′47″ W; then east to 46°41′13″ N, 086°57′33″ W; then north to 46°48′14″ N, 086°58′31″ W; then west to the point of origin.

Superior Zone 4 (Portage): Beginning at 47°11′05″ N, 087°53′30″ W; then southwest to 47°07′21″ N, 088°02′39″ W; then southeast to 47°03′54″ N, 087°53′30″ W; then northeast to 47°07′21″ N, 087°44′21″ W; then northwest to the point of origin.

Superior Zone 5 (Bayfield): Beginning at 46°49′09″ N, 090°19′16″ W; then southwest to 46°42′50″ N, 090°21′27″ W; then northeast to 46°46′52″ N, 090°11′38″ W; then northeast to 46°52′26″ N, 090°09′15″ W; then southwest to the point of origin.

Superior Zone 6 (Duluth): Beginning at 47°03′29″ N, 091°16′57″ W; then southwest to 46°59′54″ N, 091°27′22″ W; then southeast to 46°59′13″ N, 091°20′55″ W; then northeast to 47°02′29″ N, 091°08′59″ W; then northwest to the point of origin.

Superior Zone 7 (Grand Marais): Beginning at 47°40′53″ N, 090°04′51″ W; then south to 47°34′18″ N, 090°05′09″ W; then east to 47°34′37″ N, 089°53′35″ W; then north to 47°41′47″ N, 089°53′52″ W; then west to the point of origin.

All coordinates use above are based upon North American Datum 1983 (NAD 83).

Regulatory Evaluation

This proposed rule is not a “significant regulatory action” under section 3(f) of Executive Order 12866, Regulatory Planning and Review, and does not require an assessment of potential costs and benefits under section 6(a)(3) of that Order. The Office of Management and Budget has not reviewed it under that Order.

We expect the economic impact of this proposed rule to be so minimal that a full Regulatory Evaluation is unnecessary. The Coast Guard's use of these safety zones will be periodic in nature and will likely not exceed two or three one-day events per year. Moreover, these safety zones will only be enforced during time the safety zone is actually in use. Furthermore, these safety zones are located in places known not to be heavily used by the boating public. Hence, this determination is based on the minimal amount of time that vessels will be restricted from the proposed zones and that the zones are located in areas which vessels can easily transit around. The Coast Guard expects insignificant adverse impact to mariners from the activation of these zones.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This rule will affect the following entities, some of which may be small entities: The owners and operators of vessels intending to transit or anchor in an activated safety zone.

The proposed safety zones will not have a significant economic impact on a substantial number of small entities for the following reasons: The zones will be in effect for only a short time and vessels can easily transit around them. In the unlikely event that these zones do affect shipping, commercial vessels may request permission from an on-scene representative to transit through the safety zone by contacting the on-scene representative on VHF-FM channel 16. The Coast Guard will give notice to the public via a Broadcast to Mariners that the regulation is in effect.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we offered to assist small entities in understanding the rule so that they could better evaluate its effects on them and participate in the rulemaking. If the rule would affect your small business, organization, or governmental jurisdiction and you have questions concerning its provisions or options for compliance, please contact Commander Gustav Wulfkuhle, Enforcement Branch, Response Division, Ninth Coast Guard District, Cleveland, OH at (216) 902-6091. The Coast Guard will not retaliate against small entities that question or complain about this rule or any policy or action of the Coast Guard.

Collection of Information

This proposed rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA)(42 U.S.C. 4321-4370f), and have made a preliminary determination that there are no factors in this case that would limit the use of a categorical exclusion under section 2.B.2 of the Instruction. Therefore, we believe that this rule should be categorically excluded, under figure 2-1, paragraph (34)(g), of the Instruction, from further environmental documentation. This event establishes a safety zone therefore paragraph (34)(g) of the Instruction applies.

A preliminary “Environmental Analysis Check List” is available in the docket where indicated under ADDRESSES. Comments on this section will be considered before we make the final decision on whether the rule should be categorically excluded from further environmental review.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Public Law 107-295, 116 Stat. 2064; Department of Homeland Security Delegation No. 0170.1.

2. Add § 165.928 to read as follows:

§ 165.928 Safety zones; U.S. Coast Guard, Water Training Areas, Great Lakes.

(a) Notice of Enforcement or Suspension of Enforcement. The safety zones established by this section will be enforced only upon notice by the cognizant Captain of the Port for the area in which a live fire gun exercise will be held. The Captain of the Port will cause notice of the enforcement of a safety zone established by this section to be made by all appropriate means and to effect the widest publicity among the affected segments of the public including publication in the Federal Register as practicable, in accordance with 33 CFR 165.7(a). Such means of notification may also include, but are not limited to, Broadcast Notice to Mariners or Local Notice to Mariners. The appropriate Captain of the Port will issue a Broadcast Notice to Mariners and Local Notice to Mariners notifying the public when enforcement of a safety zone established by this section is suspended.

(b) Definitions. The following definitions apply to this section:

Designated representative means those persons designated by either the Captain of the Port Buffalo, Detroit, Sault Ste. Marie, and Lake Michigan to monitor these safety zones, permit entry into these zones, give legally enforceable orders to persons or vessels within these zones and take other actions authorized by the Captain of the Port. Persons authorized in paragraph (g) to enforce this section are designated representatives.

(c) Location. The following areas are safety zones:

Ontario:

Ontario Zone 1 (Eastern): Beginning at 43°44′18″ N, 076°30′22″ W; then south to 43°36′05″ N, 076°30′22″ W; then east to 43°36′05″ N, 076°22′58″ W; then north to 43°44′18″ N, 076°22′58″ W; then west to the point of origin.

Ontario Zone 2 (Middle): Beginning at 43°27′59″ N, 077°34′32″ W; then south to 43°24′19″ N, 077°34′36″ W; then east to 43°24′20″ N, 077°22′55″ W; then north to 43°28′06″ N, 077°23′04″ W; then west to the point of origin.

Ontario Zone 3 (Western): Beginning at 43°24′19″ N, 079°02′25″ W; then south to 43°21′50″ N, 079°00′47″ W; then east to 43°23′48″ N, 078°50′29″ W; then north to 43°26′29″ N, 078°52′05″ W; then west to the point of origin.

Lake Erie:

Erie Zone 1 (Eastern): Beginning at 42°12′01″ N, 080°45′11″ W; then south to 42°05′22″ N, 080°38′23″ W; then east to 42°12′35″ N, 080°18′01″ W; then north to 42°15′18″ N, 080°23′52″ W; then west to the point of origin.

Erie Zone 2 (Eastern Middle): Beginning at 41°59′51″ N, 081°16′23″ W; then south to 41°56′15″ N, 081°16′02″ W; then east to 41°58′39″ N, 081°00′12″ W; then north to 42°02′20″ N, 081°01′00″ W; then west to the point of origin.

Erie Zone 3 (Western Middle): Beginning at 41°47′40″ N, 081°47′44″ W; then south to 41°41′50″ N, 081°46′22″ W; then east to 41°41′24″ N, 081°40′26″ W; then north to 41°47′26″ N, 081°37′49″ W then west to the point of origin.

Erie Zone 4 (Western): Beginning at 41°35′30″ N, 082°30′04″ W; then south to 41°30′07″ N, 082°31′02″ W; then east to 41°30′22″ N, 082°25′07″ W; then north to 41°35′30″ N, 082°25′07″ W; then west to the point of origin.

Lake Huron:

Huron Zone 1 (Southern): Beginning at 43°43′07″ N, 082°24′23″ W; then south to 43°27′45″ N, 082°24′34″ W; then east to 43°27′45″ N, 082°20′16″ W; then north to 43°42′51″ N, 082°17′14″ W; then west to the point of origin.

Huron Zone 2 (Harbor Beach): Beginning at 44°12′00″ N, 082°40′30″ W; then south to 44°04′02″ N, 082°37′41″ W; then east to 44°04′44″ N, 082°29′24″ W; then north to 44°12′00″ N, 082°33′08″ W; then west to the point of origin.

Huron Zone 3 (Saginaw Bay): Beginning at 44°19′24″ N, 083°10′40″ W; then south to 44°09′48″ N, 083°15′55″ W; then east to 44°12′08″ N, 082°50′35″ W; then north to 44°19′30″ N, 082°55′15″ W; the west to the point of origin.

Huron Zone 4 (Thunder Bay South): Beginning at 44°45′45″ N, 083°07′19″ W; then south to 44°38′00″ N, 083°03′18″ W; then east to 44°38′00″ N, 082°54′11″ W; then north to 44°45′45″ N, 082°57′42″ W; then west to the point of origin.

Huron Zone 5 (Thunder Bay North): Beginning at 45°17′02″ N, 082°51′48″ W; then south to 45°05′54″ N, 082°51′22″ W; then southeast to 45°01′10″ N, 082°47′22″ W; then east to 45°01′07″ N, 082°35′48″ W; then north to 45°16′13″ N, 082°39′33″ W; then west to the point of origin.

Huron Zone 6 (Northern): Beginning at 45°44′35″ N, 083°58′16″ W; then south to 45°39′48″ N, 083°59′55″ W; then east to 45°38′41″ N, 083°49′26″ W; then north to 45°42′39″ N, 083°50′22″ W; then west to the point of origin.

Lake Michigan:

Michigan Zone 1 (Charlevoix): Beginning at 45°30′00″ N, 085°25′18″ W, then southwest to 45°22′41″ N, 085°26′47″ W, then northeast to 45°27′45″ N, 085°13′50″ W, then northwest to 45°32′46″ N, 085°16′25″ W then southwest to the point of origin.

Michigan Zone 2 (Frankfort): Beginning at 44°47′23″ N, 086°41′12″ W; then south to 44°34′06″ N, 086°48′54″ W; then east to 44°35′55″ N, 086°33′03″ W; then north to 44°46′41″ N, 086°28′43″ W; then west to the point of origin.

Michigan Zone 3 (Manistee): Beginning at 44°22′18″ N, 086°53′41″ W; then southwest to 44°14′34″ N, 087°01′06″ W; then southeast to 44°09′18″ N, 086°51′36″ W; then northeast to 44°21′49″ N, 086°40′14″ W; then northwest to the point of origin.

Michigan Zone 4 (Ludington): Beginning at 43°59′40″ N, 086°46′24″ W; then south to 43°51′24″ N, 086°49′50″ W; then east to 43°51′11″ N, 086°42′28″ W; then north to 43°59′21″ N, 086°39′15″ W; then west to the point of origin.

Michigan Zone 5 (Grand Haven): Beginning at 43°13′03″ N, 086°46′57″ W; then south to 43°00′27″ N, 086°46′04″ W; then east to 43°00′17″ N, 086°27′13″ W; then north to 43°13′49″ N, 086°32′00″ W; then west to the point of origin.

Michigan Zone 6 (St. Joseph): Beginning at 42°12′52″ N, 086°50′10″ W; then south to 42°05′41″ N, 086°53′55″ W; then east to 42°05′24″ N, 086°43′45″ W; then north to 42°12′19″ N, 086°39′42″ W; then west to the point of origin.

Michigan Zone 7 (Michigan City): Beginning at 41°58′36″ N, 087°02′53″ W; then south to 41°48′42″ N, 087°02′53″ W; then northeast to 41°52′51″ N, 086°51′40″ W; then north to 41°59′06″ N, 086°48′00″ W; then west to the point of origin.

Michigan Zone 8 (Chicago): Beginning at 41°55′18″ N, 087°15′49″ W; then south to 41°48′29″ N, 087°17′46″ W; then east to 41°47′45″ N, 087°08′57″ W; then north to 41°55′18″ N, 087°08′48″ W; then west to the point of origin.

Michigan Zone 9 (Waukeegan): Beginning at 42°22′28″ N, 087°39′14″ W; then south to 42°17′49″ N, 087°39′27″ W; then southeast to 42°13′42″ N, 087°37′35″ W; the east to 42°14′02″ N, 087°31′36″ W; then north to 42°22′58″ N, 087°33′02″ W; then west to the point of origin.

Michigan Zone 10 (Kenosha): Beginning at 42°39′28″ N, 087°33′19″ W; then south to 42°30′17″ N, 087°31′09″ W; then east to 42°30′21″ N, 087°23′23″ W; then north to 42°38′55″ N, 087°24′30″ W; then west to the point of origin.

Michigan Zone 11 (Milwaukee): Beginning at 43°05′13″ N, 087°32′48″ W; then south to 42°54′37″ N, 087°34′27″ W; then east to 42°54′50″ N, 087°26′27″ W; then north to 43°05′13″ N, 087°25′55″ W; then west to the point of origin.

Michigan Zone 12 (Two Rivers): Beginning at 44°08′20″ N, 087°24′08″ W; then south to 43°49′06″ N, 087°27′34″ W; then east to 43°48′59″ N, 087°20′19″ W; then north to 44°06′04″ N, 087°16′43″ W; then northwest to the point of origin.

Michigan Zone 13 (Sturgeon Bay): Beginning at 44°41′22″ N, 087°08′43″ W; then south to 44°32′49″ N, 087°13′21″ W; then east to 44°32′32″ N, 087°04′10″ W; then north to 44°40′33″ N, 087°01′41″ W; then west to the point of origin.

Michigan Zone 14 (Washington Island): Beginning at 45°19′17″ N, 086°35′58″ W; then southwest to 45°12′50″ N, 086°41′39″ W; then southeast to 45°10′50″ N, 086°30′48″ W; then northeast to 45°17′29″ N, 086°25′32″ W; then northwest to the point of origin.

Lake Superior:

Superior Zone 1 (Whitefish Bay): Beginning at 46°41′30″ N, 084°54′00″ W; then south to 46°36′00″ N, 084°55′00″ W; continuing south to 46°34′30″ N, 084°54′36″ W; then east to 46°33′18″ N, 084°50′54″ W; continuing east to 46°32′48″ N, 084°46′00″ W; then north to 46°33′12″ N, 084°45′54″ W; then northwest to 46°36′06″ N, 084°49′48″ W; continuing northwest to 46°42′00″ N, 084°52′18″ W; then southwest to the point of origin.

Superior Zone 2 (Sault Ste. Marie): Beginning at 46°56′16″ N, 085°39′01″ W; then southeast to 46°51′55″ N, 085°24′04″ W; then northeast to 46°53′07″ N, 085°12′37″ W; then northwest to 46°58′20″ N, 085°29′44″ W; then southwest to the point of origin.

Superior Zone 3 (Marquette) Beginning at 46°47′39″ N, 087°11′42″ W; then south to 46°39′54″ N, 087°09′47″ W; then east to 46°41′13″ N, 086°57′33″ W; then north to 46°48′14″ N, 086°58′31″ W; then west to the point of origin.

Superior Zone 4 (Portage): Beginning at 47°11′05″ N, 087°53′30″ W; then southwest to 47°07′21″ N, 088°02′39″ W; then southeast to 47°03′54″ N, 087°53′30″ W; then northeast to 47°07′21″ N, 087°44′21″ W; then northwest to the point of origin.

Superior Zone 5 (Bayfield): Beginning at 46°49′09″ N, 090°19′16″ W; then southwest to 46°42′50″ N, 090°21′27″ W; then northeast to 46°46′52″ N, 090°11′38″ W; then northeast to 46°52′26″ N, 090°09′15″ W; then southwest to the point of origin.

Superior Zone 6 (Duluth): Beginning at 47°03′29″ N, 091°16′57″ W; then southwest to 46°59′54″ N, 091°27′22″ W; then southeast to 46°59′13″ N, 091°20′55″ W; then northeast to 47°02′29″ N, 091°08′59″ W; then northwest to the point of origin.

Superior Zone 7 (Grand Marais): Beginning at 47°40′53″ N, 090°04′51″ W; then south to 47°34′18″ N, 090°05′09″ W; then east to 47°34′37″ N, 089°53′35″ W; then north to 47°41′47″ N, 089°53′52″ W; then west to the point of origin.

All coordinates use above are based upon North American Datum 1983 (NAD 83).

(d) Obtaining permission to enter or move within the safety zones. All vessels must obtain permission from the Captain of the Port or a Designated Representative to enter or move within the safety zones established in this section when these safety zones are enforced.

(e) Compliance. Upon notice of enforcement by the cognizant Captain of the Port, the Coast Guard will enforce these safety zones in accordance with the rules set out in this section. Upon notice of suspension of enforcement by the Captain of the Port, all persons and vessels are authorized to enter, transit, and exit these safety zones.

(f) Regulations. The general regulations in 33 CFR part 165 subpart C, apply to any vessel or person in the navigable waters of the United States to which this section applies. No person or vessel may enter the safety zones established in this section unless authorized by the cognizant Captain of the Port or their designated representative. All vessels authorized to enter these safety zones must operate at the minimum speed necessary to maintain a safe course and must proceed as directed by the cognizant Captain of the Port or his designated representative.

(g) Enforcement. Any Coast Guard commissioned, warrant, or petty officer may enforce the rules in this section.

Dated: July 14, 2006.
John E. Crowley, Jr.,
Rear Admiral, U.S. Coast Guard, Commander, Ninth Coast Guard District.

[FR Doc. E6-12332 Filed 7-31-06; 8:45 am]

BILLING CODE 4910-15-P